DEPARTMENT OF HEALTH AND HUMAN SERVICES

National Institutes of Health

National Institute of Mental Health; Amended Notice of Meeting

Notice is hereby given of a change in the meeting of the National Institute of Mental health Special Emphasis Panel, August 3, 2000, 1 PM to August 3, 2000, 2:30 PM, Neuroscience Center, National Institutes of Health, 6001 Executive Blvd., Bethesda, MD, 20892 which was published in the Federal Register on July 13, 2000, 65 FR 43379.

The meeting will now be held as a telephone conference call on August 17, 2000, from 1 PM to 2 PM. The meeting is closed to the public.

Dated: August 8, 2000.
LaVerne Y. Stringfield,
Director, Office of Federal Advisory Committee Policy.

[FR Doc. 00-20927 Filed 8-16-00; 8:45 am]

BILLING CODE 4140-01-M